DEPARTMENT OF ENERGY

Federal Energy Regulatory Commission

[Project No. 516-459]

South Carolina Electric & Gas Company, South Carolina; Notice of Public Meeting on Environmental Assessment

April 9, 2010.

The Federal Energy Regulatory Commission (Commission) hereby gives notice that members of its staff will conduct a public meeting on the draft environmental assessment (Draft EA) for the Saluda Hydroelectric Project (FERC Project No. 516-459). In addition to or in lieu of sending written comments on the Draft EA, you are invited to attend a public meeting that will be held to receive comments on the Draft EA. The time and location of this meeting is as follows:

Saluda Project Meeting

Date: April 29, 2010.

Time: 7 to 9:30 p.m. (EST).

Place: Saluda Shoals Park, River Center Conference Center.

Address: 5605 Bush River Road, Columbia, SC 29211-2611.

The purpose of this meeting is to solicit comments on the Draft EA prepared as part of processing the relicensing application for the Saluda Project. The Draft EA was issued and publicly noticed on March 24, 2010, and is available for review on the Commission's Web site at http://www.ferc.gov, under the “eLibrary” link. Enter the docket number (e.g., P-516) excluding the last three digits in the docket number field to access the document. For assistance, contact FERC Online Support at FERCOnlineSupport@ferc.gov or toll-free at 1-866-208-3676, or for TTY, (202) 502-8659.

The Saluda Project is located on the Saluda River in Richland, Lexington, Saluda, and Newberry Counties, South Carolina. There are no federal lands affected by these projects.

This meeting is open to the public. At this meeting, State and Federal resource agency personnel, Indian tribes, non-governmental organizations, and other interested persons will have the opportunity to provide oral and/or written comments regarding the Draft EA. The meeting will be recorded by a court reporter, and all statements (verbal and written) will become part of the Commission's public record for the project. This meeting is posted on the Commission's calendar located at http:// www.ferc.gov/EventCalendar/EventsList.aspx along with other related information.

The deadline for filing comments on the Draft EA is May 10, 2010. Comments should be filed with: Kimberly D. Bose, Secretary, Federal Energy Regulatory Commission, 888 First Street, NE.,Washington, DC, 20426. Comments should reference Project No. 516-459 (Saluda Project). Comments may be filed electronically via the Internet in lieu of paper. The Commission strongly encourages electronic filings. See 18 CFR 385.2001(a)(1)(iii) and instructions on the Commission's Web site at http:// www.ferc.gov under the eLibrary link.

For further information, contact Lee Emery at (202) 502-8379 or at lee.emery@ferc.gov.

Kimberly D. Bose,
Secretary.

[FR Doc. 2010-8705 Filed 4-15-10; 8:45 am]

BILLING CODE 6717-01-P